DEPARTMENT OF THE INTERIOR

National Park Service

National Register of Historic Places; Notification of Pending Nominations

Nominations for the following properties being considered for listing in the National Register were received by the National Park Service before December 9, 2000. Pursuant to section 60.13 of 36 CFR Part 60 written comments concerning the significance of these properties under the National Register criteria for evaluation may be forwarded to the National Register, National Park Service, 1849 C St., NW, NC400, Washington, DC 20240. Written comments should be submitted by January 3, 2001.

Carol D. Shull,
Keeper of the National Register.

CALIFORNIA

Los Angeles County

Venice of America House, 1223 Cabrillo Ave., Los Angeles, 00001623

San Francisco County

Haas Candy Factory, 54 Mint St., San Francisco, 00001622

COLORADO

Routt County

First National Bank Building, 803-807 Lincoln Ave., and 57\1/2\ 8th St., Steamboat Springs, 00001624

CONNECTICUT

Hartford County

South End Historic District, Roughly bounded East Rd., Willis St., George St., and South St., Bristol, 00001625

IDAHO

Franklin County

Relic Hall, 111 E. Main St., Franklin, 00001627

Minidoka County

Rupert Town Square Historic District, Roughly bounded by 7th St., E St., 5th St. and F St., Rupert, 00001626

ILLINOIS

Cook County

Graceland Cemetery, 4001 N. Clark St., Chicago, 00001628

INDIANA

Marshall County

Hemminger Travel Lodge, 800 Lincolnway East, Plymouth, 00001629

LOUISIANA

Caddo Parish

Fair Park High School, 3222 Greenwood Rd., Shreveport, 00001630

MAINE

Aroostook County

Anderson Bros. Store, 280 Main St., Stockholm, 00001635

Kennebec County

Colburn School, Arnold Rd., 0.4 mi. S of jct. with ME 27, Pittston, 00001633

Lincoln County

Main Street Historic District (Boundary Increase), 170-270 Main St., 4-5 Bristol Rd., Damariscotta, 00001636

Oxford County

Andover Hook and Ladder Company Building, 39 Elm St., Andover, 00001631

Greenwood Town Hall, Former, 270 Main St., Locke Mills, 00001634

Sagadahoc County

Cathance Water Tower, Cathance Rd. jct. with Beechwood Dr., Topsham, 00001637

Washington County

Gallison Memorial Library, US 1, 0.5 mi. W of jct. with US 1A, Harrington, 00001632

MICHIGAN

Oceana County

Navigation Structures at Pentwater Harbor, West End of Lowell St., Pentwater, 00001638

NEVADA

Douglas County

Jobs Peak Ranch, 144 Summit Ridge Way, Genoa, 00001639

NORTH CAROLINA

Guilford County

Adams, John H., House, 1108 N. Main St., High Point, 00001641

Mecklenburg County

Union Storage and Warehouse Company Building, 1000 W. Morehead St., Charlotte, 00001640

NORTH DAKOTA

Morton County

German Evangelical St. Johns Church—Deutsche Evangelische St. Johannes Kirche, 624 Church Ave., Hebron, 00001642

WISCONSIN

Jefferson County

Jefferson High School, 201 S. Copeland Ave., Jefferson, 00001643

WYOMING

Converse County

Morton Mansion, 425 Center St., Douglas, 00001644

To assist in the preservation of this historic property the comment period for the following resource has been shortened to three (3) days:

MISSOURI

Greene County

Second Baptist Church (Colored), 729 North Washington, Springfield, 00001620

[FR Doc. 00-32203 Filed 12-18-00; 8:45 am]

BILLING CODE 4310-70-U